DEPARTMENT OF COMMERCE

National Oceanic and Atmospheric Administration

RIN 0648-XW58

South Atlantic Fishery Management Council; Public Meetings

AGENCY: National Marine Fisheries Service (NMFS), National Oceanic and Atmospheric Administration (NOAA), Commerce.

ACTION: Notice of public meetings.

SUMMARY: The South Atlantic Fishery Management Council will hold a meeting of its Spiny Lobster Committee and Advisory Panel jointly with the Gulf of Mexico Fishery Management Council's Spiny Lobster Committee and Advisory Panel, a meeting of its Mackerel Committee jointly with the Gulf of Mexico Fishery Management Council's Mackerel Committee, and a meeting of the Full Council. The Council will take action as necessary. The Council will also hold an informal public question and answer session, and a public comment session regarding agenda items. See SUPPLEMENTARY INFORMATION for additional details.

DATES: The meeting will be held June 7-11, 2010. See SUPPLEMENTARY INFORMATION for specific dates and times.

ADDRESSES: The meeting will be held at the Renaissance Orlando Airport Hotel, 5445 Forbes Place, Orlando, FL 32812; telephone: (800) 545-1985 or (407) 240-1000; fax: (407) 240-1005. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates:

1. Joint Spiny Lobster Committee and Advisory Panel Meeting with the Gulf of Mexico Fishery Management Council's Spiny Lobster Committee and Advisory Panel: June 7, 2010, 8:30 a.m. until 5:30 p.m..

Committees and Advisory Panels from both the South Atlantic and Gulf of Mexico Fishery Management Councils will meet to review options for Amendment 10 to the joint Fishery Management Plan (FMP) for Spiny Lobster for Gulf of Mexico and South Atlantic. Amendment 10 will address the requirements of the Reauthorized Magnuson-Stevens Fishery Conservation and Management Act (MSA) including establishment of Annual Catch Limits (ACLs) and Accountability Measures (AMs). Other potential actions in the amendment include options for tailing permits, the use of undersized lobster as an attractant, and consideration of delegation of management to the State of Florida. The Committees will provide recommendations to both the South Atlantic and Gulf of Mexico Councils.

Note: There will be an informal public question and answer session with NOAA Fisheries Services' Regional Administrator and the Council Chairman on June 7, 2010 beginning at 6 p.m.

2. Joint South Atlantic and Gulf of Mexico Mackerel Committees Meeting: June 8, 2010, 8:30 a.m. until 3 p.m.

The joint Mackerel Committees will review the reports from their respective Scientific and Statistical Committees (SSCs) regarding Atlantic and Gulf of Mexico stocks of king mackerel and Spanish mackerel. The Committees will also review Amendment 18 to the FMP for Coastal Migratory Pelagic Resources, discuss a king mackerel catch shares program and establish public hearing dates and locations. Amendment 18 addresses requirements of the MSA to set ACLs and AMs for species managed in the FMP. The Committees will provide recommendations and direction to staff.

3. Council Session: June 8, 2010, 3:15 p.m. until 6:15 p.m., June 9, 2010, 8:30 a.m. until 6:30 p.m., June 10, 2010, 8:30 a.m. until 6 p.m., June 11, 2010, 8:30 a.m. until noon.

Council Session: June 8, 2010, 3:15 p.m. until 6:15 p.m.

3:15 p.m. - 3:30 p.m., the Council will call the meeting to order, adopt the agenda, and approve the March 2010 meeting minutes.

3:30 p.m. - 6:15 p.m., the Council will receive presentations relative to Snapper Grouper issues, including a report from the SSC, an update on activities relative to the Oculina Bank Experimental Closed Area, quota monitoring programs, and data collection programs.

Note: A public comment period on any of the June meeting agenda items will be held on June 8, 2010 beginning at 6:30 p.m. This includes Amendment 17A to the Snapper Grouper FMP regarding management measures for red snapper.

Council Session: June 9, 2010, 8:30 a.m. until 6:30 p.m.

8:30 a.m. - 10 a.m., the Council will review comments received on the Draft Environmental Statement relative to Amendment 17A to the Snapper Grouper Fishery Management Plan for the South Atlantic, modify the document as appropriate, and approve the amendment for submission to the Secretary of Commerce for formal review. Amendment 17A includes actions to meet the requirements of the MSA for red snapper, including ending overfishing and rebuilding the stock. Management measures include a closure of the red snapper fishery, an area closure for all snapper grouper species, requirements for circle hooks, and establishment of a red snapper monitoring program.

10 a.m. - 11 a.m., in the event the red snapper benchmark stock assessment allows for modification to the proposed management actions in Amendment 17A, the Council will review options for modification of existing actions. These include various alternatives for the area closure and approaches or mechanisms appropriate to modify the actions.

11 a.m. - 12 noon, the Council will also continue to review management measures proposed in Amendment 18 to the Snapper Grouper FMP, provide guidance for any new items that may be added, and approve for a second round of public hearings if necessary. Amendment 18 includes management measures to extend the range of the Snapper Grouper FMP north, designate Essential Fish Habitat in any new northern areas, measures to limit participation in the commercial golden tilefish and changes to the golden tilefish fishing year, measures to reduce participation, effort and bycatch in the commercial black sea bass fishery, and measures to improve data collection.

1:30 p.m. - 2:30 p.m., the Council will review Amendment 20 to the Snapper Grouper FMP, modify the document as necessary and provide guidance to staff. Amendment 20 includes management measures to meet the requirements of the MSA relative to the wreckfish fishery. The fishery currently operates under an Individual Transferable Quota (ITQ) system.

2:30 p.m. - 4 p.m., the Council will review alternatives within the Comprehensive Annual Catch Limit Amendment designed to meet the requirements of the MSA, including the establishment of ACLs and AMs for all species not undergoing overfishing within the Council's jurisdiction by 2011. The Council will review alternatives, including those needed in response to recent black grouper and red grouper stock assessments, modify the document as necessary, and provide guidance to staff.

4 p.m. - 4:30 p.m., the Council will review alternatives for Amendment 21 to the Snapper Grouper FMP. The amendment currently involves the following species: vermilion snapper, golden tilefish, black sea bass, gag, greater amberjack, red grouper, and black grouper, and includes options for trip limits, effort and participation reduction and endorsement actions, and options for catch share programs for quota species except snowy grouper. The Council will provide guidance to staff regarding the development of the amendment.

4:30 p.m. - 5:30 p.m., the Council will review alternatives for Amendment 22 to the Snapper Grouper FMP. The amendment includes long-term management measures for the red snapper fishery as the stock begins to rebuild. The Council will provide guidance to staff regarding the development of the amendment.

5:30 p.m. - 6 p.m., the Council will discuss a potential interim rule request for black sea bass, vermilion snapper, and gag grouper trip limits and provide guidance to staff.

6 p.m. - 6:30 p.m., the Council will consider options to modify sea turtle handling and release gear requirements and take action as necessary.

Council Session: June 10, 2010, 8:30 a.m. until 6 p.m.

8:30 a.m. - 9 a.m. (CLOSED SESSION) - The Council will receive legal briefing on litigation.

9 a.m. - 10 a.m., the Council will review SSC recommendations regarding golden crab, receive a status report on the development of Amendment 5 to the Golden Crab FMP regarding establishment of a catch share program for the fishery, develop recommendations for the Comprehensive ACL Amendment and take action as necessary.

10 a.m. - 11 a.m., the Council will review SSC recommendations regarding species managed in the Dolphin Wahoo FMP, develop recommendations for the Comprehensive ACL Amendment and take action as necessary.

11 a.m. - 12 noon, the Council will review the status of the Calendar Year (CY) 2010 budget, receive a report on the Council Coordinating Committee meeting, and take action as appropriate.

1:30 p.m. - 3 p.m., the Council will review input from the SSC regarding the Comprehensive Ecosystem-Based Amendment 2 addressing requirements for Essential Fish Habitat (EFH) and EFH-Habitat Areas of Particular Concern as required by the Final Rule, harvest requirements for corals, and evaluation of fishing gear impacts. The Council will review alternatives and take action as necessary. The Council will also develop input for Sargassum relative to the Comprehensive ACL Amendment, review and provide guidance to staff on the Council's Invasive Species Policy statement.

3 p.m. - 4 p.m., the Council will review the conflict of interest disclosure form regarding the Southeast Data, Assessment, and Review (SEDAR) stock assessment program, make SSC appointments to the Goliath grouper SEDAR assessment and review panels, and the SEDAR Spiny Lobster review panel.

4 p.m. - 5 p.m., the Council will revise its Standard Operations and Procedures Policy (SOPPs) as dictated by the Final Rule, and take action as necessary.

5 p.m. - 6 p.m. (CLOSED SESSION) - The Council will review updated SSC job descriptions, review applicants to the SSC and appoint members as necessary.

Council Session: June 11, 2010, 8:30 a.m. until 12 noon.

8:30 a.m. - 9 a.m., the Council will receive recommendations from the Spiny Lobster Committee and take action as appropriate.

9 a.m. - 9:30 a.m., the Council will receive recommendations from the Mackerel Committee and take action as appropriate.

9:30 a.m. - 10 a.m., the Council will receive a report from the SSC Selection Committee and appoint or reappoint members as necessary.

10 a.m. - 10:30 a.m., the Council will review and develop recommendations on Experimental Fishing Permits as necessary.

10:30 a.m. - 12 noon, the Council will receive status reports from NOAA Fisheries' Southeast Regional Office, NOAA Fisheries' Southeast Fisheries Science Center, agency and liaison reports, and discuss other business including upcoming meetings.

Documents regarding these issues are available from the Council office (see ADDRESSES).

Although non-emergency issues not contained in this agenda may come before this Council for discussion, those issues may not be the subjects of formal final Council action during these meetings. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by June 3, 2010.

Dated: May 18, 2010.
Tracey L. Thompson,
Acting Director, Office of Sustainable Fisheries, National Marine Fisheries Service.

[FR Doc. 2010-12317 Filed 5-21-10; 8:45 am]

BILLING CODE 3510-22-S